DEPARTMENT OF TRANSPORTATION

Federal Aviation Administration

14 CFR Part 39

[Docket No. FAA-2016-7264; Product Identifier 2015-NM-185-AD; Amendment 39-18998; AD 2017-17-08]

RIN 2120-AA64

Airworthiness Directives; Airbus Airplanes

AGENCY: Federal Aviation Administration (FAA), Department of Transportation (DOT).

ACTION: Final rule.

SUMMARY: We are adopting a new airworthiness directive (AD) for certain Airbus Model A330-200, -200 Freighter, and -300 series airplanes; and Model A340-500 and -600 series airplanes. This AD was prompted by a quality control review on the final assembly line, which determined that the wrong aluminum alloy was used to manufacture several structural parts. This AD requires a one-time eddy current conductivity measurement of certain cabin and cargo compartment structural parts to determine if an incorrect aluminum alloy was used, and replacement of any affected part with a serviceable part. We are issuing this AD to address the unsafe condition on these products.

DATES: This AD is effective October 2, 2017.

The Director of the Federal Register approved the incorporation by reference of certain publications listed in this AD as of October 2, 2017.

ADDRESSES: For service information identified in this final rule, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Standards Branch, 1601 Lind Avenue SW., Renton, WA. For information on the availability of this material at the FAA, call 425-227-1221. It is also available on the Internet at http://www.regulations.gov by searching for and locating Docket No. FAA-2016-7264.

Examining the AD Docket

You may examine the AD docket on the Internet at http://www.regulations.gov by searching for and locating Docket No. FAA-2016-7264; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Vladimir Ulyanov, Aerospace Engineer, International Section, Transport Standards Branch, FAA, 1601 Lind Avenue SW., Renton, WA 98057-3356; telephone 425-227-1138; fax 425-227-1149.

SUPPLEMENTARY INFORMATION:

Discussion

We issued a supplemental notice of proposed rulemaking (SNPRM) to amend 14 CFR part 39 by adding an AD that would apply to certain Airbus Model A330-200, -200 Freighter, and -300 series airplanes; and Model A340-500 and -600 series airplanes. The SNPRM published in the Federal Register on May 19, 2017 (82 FR 22907) (“the SNPRM”). We preceded the SNPRM with a notice of proposed rulemaking (NPRM) that published in the Federal Register on June 21, 2016 (81 FR 40201) (“the NPRM”). The NPRM proposed to require a one-time eddy current conductivity measurement of certain cabin and cargo compartment structural parts to determine if an incorrect aluminum alloy was used, and replacement of any affected part with a serviceable part. The NPRM was prompted by a quality control review on the final assembly line, which determined that the wrong aluminum alloy was used to manufacture several structural parts. The SNPRM proposed to require new inspection locations for certain airplanes, and removing incorrect part numbers. We are issuing this AD to detect and replace structural parts made of an incorrect aluminum alloy. This condition could result in reduced structural integrity of the airplane.

The European Aviation Safety Agency (EASA), which is the Technical Agent for the Member States of the European Union, has issued EASA Airworthiness Directive 2017-0021, dated February 8, 2017 (referred to after this as the Mandatory Continuing Airworthiness Information, or “the MCAI”), to correct an unsafe condition for certain Airbus Model A330-200, -200 Freighter, and -300 series airplanes; and Model A340-500 and -600 series airplanes. The MCAI states:

Following an Airbus quality control review on the final assembly line, it was discovered that wrong aluminum alloy was used to manufacture several structural parts.

This condition, if not detected and corrected, could reduce the structural integrity of the aeroplane.

To address this potential unsafe condition, Airbus published [Service Bulletin] (SB) A330-53-3261, SB A330-53-3262, and SB A340-53-5072, as applicable to aeroplane type/model, to provide instructions to identify the affected parts. Consequently, EASA issued AD 2015-0206 to require a one-time special detailed inspection (SDI) [eddy current conductivity measurements] of certain cabin and/or cargo compartment parts for material identification and, depending on findings, replacement with serviceable parts.

Since that [EASA] AD was issued, Airbus identified that the list of affected structural parts in SB A330-53-3261 was incorrect. Prompted by these findings, Airbus issued SB A330-53-3261 Revision 01 to introduce the new locations to be inspected and remove other parts not affected.

For the reasons described above, this [EASA] AD retains the requirements of EASA AD 2015-0206, which is superseded, and expands the locations to be inspected.

You may examine the MCAI in the AD docket on the Internet at http://www.regulations.gov by searching for and locating Docket No. FAA-2016-7264.

Comments

We gave the public the opportunity to participate in developing this AD. We received no comments on the SNPRM or on the determination of the cost to the public.

Conclusion

We reviewed the relevant data and determined that air safety and the public interest require adopting this AD as proposed, except for minor editorial changes. We have determined that these minor changes:

• Are consistent with the intent that was proposed in the SNPRM for correcting the unsafe condition; and

• Do not add any additional burden upon the public than was already proposed in the SNPRM.

Related Service Information Under 1 CFR Part 51

Airbus has issued the following service information:

• Airbus Service Bulletin A330-53-3261, Revision 01, including Appendixes 01, 02, and 03, dated November 10, 2016.

• Airbus Service Bulletin A330-53-3262, including Appendixes 01 and 02, dated June 23, 2015.

• Airbus Service Bulletin A340-53-5072, including Appendixes 01 and 02, dated June 23, 2015.

This service information describes procedures for a one-time eddy current conductivity measurement of certain cabin and cargo compartment structural parts to determine if an incorrect aluminum alloy was used, and replacement of any affected part with a serviceable part. These documents are distinct because they apply to different parts on different airplanes. This service information is reasonably available because the interested parties have access to it through their normal course of business or by the means identified in the ADDRESSES section.

Costs of Compliance

We estimate that this AD affects 37 airplanes of U.S. registry.

We also estimate that it takes about 17 work-hours per product to comply with the basic requirements of this AD. The average labor rate is $85 per work-hour. Based on these figures, we estimate the cost of this AD on U.S. operators to be $53,465, or $1,445 per product.

In addition, we estimate that any on-condition repairs take about 45 work-hours and will require parts costing $0, for a cost of $3,825 per product. We have no way of determining the number of aircraft that might need these repairs.

According to the manufacturer, some of the costs of this AD may be covered under warranty, thereby reducing the cost impact on affected individuals. We do not control warranty coverage for affected individuals. As a result, we have included all available costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-17-08 Airbus: Amendment 39-18998; Docket No. FAA-2016-7264; Product Identifier 2015-NM-185-AD.

(a) Effective Date

This AD is effective October 2, 2017.

(b) Affected ADs

None.

(c) Applicability

This AD applies to the Airbus airplanes identified in paragraphs (c)(1) and (c)(2) of this AD, certificated in any category.

(1) Airbus Model A330-201, -202, -203, -223, -223F, -243, -243F, -301, -302, -303, -321, -322, -323, -341, -342, and -343 airplanes, manufacturer serial numbers identified in Airbus Service Bulletin A330-53-3261, Revision 01, including Appendixes 01, 02, and 03, dated November 10, 2016; and/or Airbus Service Bulletin A330-53-3262, including Appendixes 01 and 02, dated June 23, 2015.

(2) Airbus Model A340-541 and -642 airplanes, manufacturer serial numbers 1030, 1040, 1079, 1091, 1102, and 1122.

(d) Subject

Air Transport Association (ATA) of America Code 53, Fuselage.

(e) Reason

This AD was prompted by a quality control review on the final assembly line, which determined that the wrong aluminum alloy was used to manufacture several structural parts. We are issuing this AD to detect and replace structural parts made of an incorrect aluminum alloy. This condition could result in reduced structural integrity of the airplane.

(f) Compliance

Comply with this AD within the compliance times specified, unless already done.

(g) One-Time Measurement

Except as provided by paragraph (i) of this AD: Within 6 years after the effective date of this AD, but not exceeding 12 years since the date of issuance of the original certificate of airworthiness or the date of issuance of the original export certificate of airworthiness; do a one-time eddy current conductivity measurement of the cabin and cargo compartment structural parts identified in the “Affected Part Number” column of table 1 to paragraphs (g) and (h) of this AD to determine if an incorrect aluminum alloy was used, in accordance with the Accomplishment Instructions of the applicable service information identified in paragraph (g)(1), (g)(2), or (g)(3) of this AD.

(1) For cargo compartment structural parts for Model A330 airplanes: Airbus Service Bulletin A330-53-3261, Revision 01, including Appendixes 01, 02, and 03, dated November 10, 2016.

(2) For cabin structural parts for Model A330 airplanes: Airbus Service Bulletin

A330-53-3262, including Appendixes 01 and 02, dated June 23, 2015; except part number F5377004320300, which is located in the “cabin” area, but must be inspected in accordance with Airbus Service Bulletin A330-53-3261, Revision 01, including Appendixes 01, 02, and 03, dated November 10, 2016.

(3) For cargo compartment structural parts for Model A340 airplanes: Airbus Service Bulletin A340-53-5072, including Appendixes 01 and 02, dated June 23, 2015.

Table 1 to Paragraphs (g) and (h) of This AD—Parts To Be Inspected/Installed
Affected part No. | Acceptable replacement part No. | Area
F5347126620600 | F5347126620000 | Cabin.
F5347126621000 | F5347126620400 | Cabin.
F5377004320300 | F5377004320351 | Cabin.
F5347170420400 | F5347170420400 | Cargo.
F5347170420600 | F5347170420600 | Cargo.
G5367131300000 | G5367131300000 | Cargo.
G5367173700000 | G5367173700000 | Cargo.
G5367173800000 | G5367173800000 | Cargo.

(h) Replacement

If during the inspection required by paragraph (g) of this AD, any affected part having a part number specified in table 1 to paragraphs (g) and (h) of this AD is found to have a measured value greater than that specified in Figure A-GFAAA, Sheet 02, “Inspection Flowchart,” of the applicable service information identified in paragraphs (g)(1), (g)(2), and (g)(3) of this AD, except as provided by paragraph (i) of this AD: Within 6 years after the effective date of this AD, but not exceeding 12 years since the date of issuance of the original certificate of airworthiness or the date of issuance of the original export certificate of airworthiness, replace the affected part with an acceptable replacement part having a part number specified in table 1 to paragraphs (g) and (h) of this AD, in accordance with the Accomplishment Instructions of the applicable service information identified in paragraph (g)(1), (g)(2), or (g)(3) of this AD.

(i) Exception to Certain Service Information

Where Figure A-GFAAA, Sheet 02, “Inspection Flowchart,” of the service information identified in paragraphs (g)(2) and (g)(3) of this AD specifies to “do the conductivity (σ) measurement with 60kHz (refer to Appendix 01) σ480 = ___MS/m,” the correct conductivity measurement is “σ60 = ___MS/m.”

(j) Additional Inspection for Certain Airplanes

For Model A330 airplanes on which the inspection and replacement, as applicable, specified in paragraphs (g) and (h) of this AD were done before the effective date of this AD, in accordance with Airbus Service Bulletin A330-53-3261, dated June 23, 2015: Within 6 years after the effective date of this AD, but not exceeding 12 years since the date of issuance of the original certificate of airworthiness or the date of issuance of the original export certificate of airworthiness, do a one-time eddy current conductivity measurement of structural parts having part number (P/N) G5367131300000, P/N G5367173700000, and P/N G5367173800000, located in fuselage section 15, in accordance with the “Additional Work” section of the Accomplishment Instructions of Airbus Service Bulletin A330-53-3261, Revision 01, including Appendixes 01, 02, and 03, dated November 10, 2016.

(k) Replacement

If during the inspection required by paragraph (j) of this AD, any affected part having a part number specified in paragraph (j) of this AD is found to have a measured value greater than that specified in Figure A-GFAAA, Sheet 02, “Inspection Flowchart,” of Airbus Service Bulletin A330-53-3261, Revision 01, including Appendixes 01, 02, and 03, dated November 10, 2016: Within 6 years after the effective date of this AD, but not exceeding 12 years since the date of issuance of the original certificate of airworthiness or the date of issuance of the original export certificate of airworthiness, replace the affected part with an acceptable replacement part having a part number specified in table 1 to paragraphs (g) and (h) of this AD, in accordance with the Accomplishment Instructions of Airbus Service Bulletin A330-53-3261, Revision 01, including Appendixes 01, 02, and 03, dated November 10, 2016.

(l) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the manager of the International Section, send it to the attention of the person identified in paragraph (m)(2) of this AD. Information may be emailed to 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(m) Related Information

(1) Refer to Mandatory Continuing Airworthiness Information (MCAI) EASA Airworthiness Directive 2017-0021, dated February 8, 2017, for related information. This MCAI may be found in the AD docket on the Internet at http://www.regulations.gov by searching for and locating Docket No. FAA-2016-7264.

(2) For more information about this AD, contact Vladimir Ulyanov, Aerospace Engineer, International Section, Transport Standards Branch, FAA, 1601 Lind Avenue SW., Renton, WA 98057-3356; telephone 425-227-1138; fax 425-227-1149.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A330-53-3261, Revision 01, including Appendixes 01, 02, and 03, dated November 10, 2016.

(ii) Airbus Service Bulletin A330-53-3262, including Appendixes 01 and 02, dated June 23, 2015.

(iii) Airbus Service Bulletin A340-53-5072, including Appendixes 01 and 02, dated June 23, 2015.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Standards Branch, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 9, 2017.
Dionne Palermo,
Acting Director, System Oversight Division, Aircraft Certification Service.

[FR Doc. 2017-17536 Filed 8-25-17; 8:45 am]

BILLING CODE 4910-13-P